DEPARTMENT OF EDUCATION

[Docket No.: ED-2020-SCC-00161]

Agency Information Collection Activities; Comment Request; Correction

AGENCY: Office of the Secretary (OS); Department of Education (ED).

ACTION: Correction notice.

SUMMARY: The Department of Education published a document in the Federal Register of October 5, 2020, concerning an extension of a previously approved information collection. The document contained an incorrect docket number. The PRA Coordinator, Strategic Collections and Clearance, Office of the Chief Data Officer, Office of Planning, Evaluation and Policy Development, is issuing a correction notice as required by the Paperwork Reduction Act of 1995.

SUPPLEMENTARY INFORMATION:

Correction

In the Federal Register of October 5, 2020, in FR Doc. 2020-21961 on page 62720 in the third column, correct the docket number of ED-2020-SCC-0162 in the heading and under ADDRESSES to read as ED-2020-SCC-00161.

Dated: October 6, 2020.
Stephanie Valentine,
PRA Coordinator, Strategic Collections and Clearance, Office of the Chief Data Officer, Office of Planning, Evaluation and Policy Development.

[FR Doc. 2020-22497 Filed 10-9-20; 8:45 am]

BILLING CODE 4000-01-P